DEPARTMENT OF LABOR

Employment and Training Administration

Proposed Information Collection for Growing America Through Entrepreneurship (GATE) II Evaluation; Comment Request

AGENCY: Employment and Training Administration, Labor.

ACTION: Notice.

SUMMARY: The Department of Labor (Department), as part of its continuing effort to reduce paperwork and respondent burden, conducts a pre-clearance consultation program to provide the general public and federal agencies with an opportunity to comment on proposed and or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

Currently, the Employment and Training Administration (ETA) is soliciting comments on a new data collection for the GATE II Evaluation. A copy of the proposed information collection request (ICR) can be obtained by contacting the office listed below in the addressee section of this notice.

DATES: Written comments must be submitted to the office listed in the addressee section below on or before July 5, 2011.

ADDRESSES: Richard Muller, Office of Policy Development and Research, U.S. Department of Labor, Room N-5641, 200 Constitution Avenue, NW., Washington, DC 20210. Telephone (202) 693-3680 (this is not a toll-free number), fax number (202) 693-2766 or e-mail: Muller.Richard@dol.gov.

SUPPLEMENTARY INFORMATION:

I. Background

Many individuals have the motivation and skills to develop small businesses but lack business expertise and training. Recognizing this untapped potential, ETA created and evaluated a demonstration program designed to assist individuals interested in self-employment to develop their businesses—Project GATE. In helping individuals develop businesses, Project GATE promoted both workforce and economic development. Project GATE was an experimental design demonstration that investigated the impact of providing entrepreneurship training services to individuals interested in starting or growing a business. The cornerstone of the evaluation was random assignment. A total of 4,198 applicants to GATE were randomly assigned to either a program group or a control group. The project was implemented in both rural and urban locations in Maine, Pennsylvania, and Minnesota from 2002 to 2009.

In Project GATE, treatment group members were offered an assessment of their business needs, classroom training, one-on-one technical assistance, and assistance in applying for business financing. A telephone survey of participants and control group members was conducted to collect three waves of data at approximately six months after random assignment, 18 months after random assignment, and 60 months after random assignment. A process evaluation as well as an impact evaluation of the effectiveness of the GATE model were conducted utilizing site visits, surveys, and administrative data.

The early impacts of Project GATE services were reported to ETA in July 2008 (see Benus, J., McConnell, S., Bellotti, J., Shen, T., Fortson, K., & Kahvecioglu, D. “Growing America Through Entrepreneurship: Findings from the Evaluation of Project GATE” U. S. Department of Labor, Employment and Training Administration, 2008). The positive findings in this report led the Department to issue a Solicitation for Grant Applications (SGA) for States to implement the GATE model of entrepreneurship services targeted at older and rural WIA dislocated workers. That is, unlike the first Project GATE demonstration, which was available to all applicants, services under this new demonstration (known as GATE II) were targeted towards dislocated workers.

An evaluation of the GATE II grants is necessary for policymakers and program developers to determine whether the model can be successfully implemented for dislocated workers. A follow-up survey, as envisioned in the GATE II evaluation design, is the only way to collect information on self-employment experiences, receipt of microenterprise services, and household income.

GATE II will be evaluated using an experimental design. Individuals that submitted an application for GATE II in each site and who met minimal eligibility criteria are being randomly assigned to either a program group or a control group. Members of the program group are eligible to receive GATE II services, while members of the control group are not eligible to receive GATE II services, although they will not be prohibited from receiving self-employment services from other sources.

As noted above, unlike the first Project GATE demonstration, which was available to all applicants, services under GATE II are targeted towards WIA dislocated workers. In June 2008 grants were awarded to implement GATE II in four states—Alabama, Minnesota, North Carolina, and Virginia. Two states, Alabama and North Carolina, were selected to target services to dislocated workers in rural areas, while the two other States, Minnesota and Virginia, were selected to target dislocated workers 45 years old and older.

The evaluation will address the following key questions:

(1) What are the impacts of GATE II on participants' labor market and self-employment outcomes?

(2) Does the program increase the use of self-employment services?

(3) Does the program lead to an increase in the completion of business plans and applications and receipt of loans?

(4) Does the program increase the likelihood of self-employment?

(5) Does the program promote employment and other aspects of economic development?

(6) Does the program increase employment, earnings, and satisfaction with employment and reduce the receipt of Unemployment Insurance (UI) and public assistance?

(7) Is GATE II effective in rural areas and for older workers?

(8) Does the effectiveness of the program vary by population subgroup?

Addressing these questions will involve conducting process and impact analyses. The process evaluation is based on information collected during two rounds of site visits to each site, during which detailed information will be collected on the implementation of the program from interviews with program staff, observations of services, and focus groups with program participants. Data will also be collected using a Participant Tracking System developed specifically for the study. The impact evaluation will involve comparing outcomes of members of the program group with outcomes of members of the control group. Data on these outcomes will be collected from UI benefit records and quarterly wage records, and a follow-up survey that will occur approximately 18 months after random assignment.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

The follow-up survey, which is the subject of this notice, will be conducted by telephone approximately 18 months following random assignment. The survey will collect data unavailable from administrative records. The survey is designed to collect detailed information about sample members' participation and experiences in receiving self-employment services, their experiences starting a business, their experiences in jobs working for someone else, their receipt of public assistance, and some background data on their socio-economic and demographic characteristics. It is also designed to collect their experiences in self-employment and developing small businesses, their experiences in jobs working for someone else, and their income and receipt of public assistance.

Type of Review: New

Agency: Employment and Training Administration

Title: Partnership for Self-Sufficiency: Growing America Through Entrepreneurship

OMB Control No.: 1205-0NEW

Affected Public: Individuals

| Total respondents | Frequency | Total responses | Average time per respondent | Burden (hours)
GATE II FOLLOW-UP SURVEY | 1,584 | Once | 1,584 | 30 minutes | 792
Totals |  |  | 1,584 |  | 792

Comments submitted in response to this comment request will be summarized and/or included in the request for Office of Management and Budget approval of the information request; they will also become a matter of public record.

Dated: April 29, 2011.
Jane Oates,
Assistant Secretary for Employment and Training Administration.

[FR Doc. 2011-10938 Filed 5-4-11; 8:45 am]

BILLING CODE 4510-FN-P